FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than June 1, 2005.

A. Federal Reserve Bank of Kansas City (Donna J. Ward, Assistant Vice President) 925 Grand Avenue, Kansas City, Missouri 64198-0001:

1. Hugh F. Wilkins and Gertrude Schneider, both of Geneva, Nebraska; Thomas S. Wilkins, Riverside, Illinois; Richard Buse, Charlotte Buse, Mary Jo Nitsch, and Richard Schneider, all of Omaha, Nebraska; and Robert C. Schneider, Phoenix, Arizona; to acquire voting shares of Fairmont Farmers State Company, and thereby indirectly acquire voting shares of Farmers State Bank, both of Fairmont, Nebraska.

Board of Governors of the Federal Reserve System, May 12, 2005.
Robert deV. Frierson,
Deputy Secretary of the Board.

[FR Doc. 05-9796 Filed 5-16-05; 8:45 am]

BILLING CODE 6210-01-S